DEPARTMENT OF THE INTERIOR

Bureau of Reclamation

[RR03210000, XXXR4079V4, RX.12256210.2029600]

Notice To Extend the Public Comment Period for the Draft Environmental Impact Statement for the Navajo Generating Station-Kayenta Mine Complex Project, Arizona

AGENCY: Bureau of Reclamation, Interior.

ACTION: Notice of extension.

SUMMARY: The Bureau of Reclamation is extending the public comment period for the Draft Environmental Impact Statement (EIS) for the Navajo Generating Station-Kayenta Mine Complex Project to Thursday, December 29, 2016. The Notice of Availability and Notice of Public Meetings for the Draft EIS was published in the Federal Register on Friday, September 30, 2016 (81 FR 67384). The public comment period for the Draft EIS was originally scheduled to end on Tuesday, November 29, 2016.

DATES: Comments on the Draft EIS will be accepted until close of business on Thursday, December 29, 2016.

ADDRESSES: You may submit written comments by the following methods:

• Email: NGSKMC-EIS@usbr.gov.

• Mail: NGS-KMC Project Manager, PXAO-1500, Bureau of Reclamation, Phoenix Area Office, 6150 W. Thunderbird Road, Glendale, AZ 85306-4001.

• Facsimile: (623) 773-6483.

• At the public meetings.

FOR FURTHER INFORMATION CONTACT: Ms. Sandra Eto, (623) 773-6254, or by email at NGSKMC-EIS@usbr.gov. Additional information is available online at http://www.ngskmc-eis.net.

SUPPLEMENTARY INFORMATION: In response to a formal request for an extension, the Bureau of Reclamation is extending the close of the public comment period for the Draft EIS to Thursday, December 29, 2016.

Public Disclosure

Before including your address, phone number, email address, or other personal identifying information in your comment, you should be aware that your entire comment—including your personal identifying information—may be made publicly available at any time. While you can ask us in your comment to withhold your personal identifying information from public review, we cannot guarantee that we will be able to do so.

Dated: October 28, 2016.
Leslie Meyers,
Manager, Phoenix Area Office.

[FR Doc. 2016-27926 Filed 11-18-16; 8:45 am]

BILLING CODE 4332-90-P